DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, July 13, 2009, 8 a.m. to July 13, 2009, 5 p.m., Washingtonian Center Courtyard, 204 Boardwalk Place, Gaithersburg, MD 20878 which was published in the Federal Register on May 27, 2009, 74 FR 12248.

The meeting has been changed to July 14, 2009, from 8 a.m. to 4 p.m. The location remains the same. The meeting is closed to the public.

Dated: June 1, 2009.
Jennifer Spaeth,
Director, Office of Federal Advisory Committee Policy.

[FR Doc. E9-13289 Filed 6-5-09; 8:45 am]

BILLING CODE 4140-01-P